DEPARTMENT OF VETERANS AFFAIRS

[OMB Control No. 2900-New (DBQs—Group 3)]

Proposed Information Collection (Disability Benefits Questionnaires—Group 3) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection and allow 60 days for public comment in response to the notice. This notice solicits comments for information needed to obtain medical evidence to adjudicate a claim for disability benefits.

DATES: Written comments and recommendations on the proposed collection of information should be received on or before June 14, 2011.

ADDRESSES: Submit written comments on the collection of information through Federal Docket Management System (FDMS) at http://www.Regulations.gov or to Nancy J. Kessinger, Veterans Benefits Administration (20M33), Department of Veterans Affairs, 810 Vermont Avenue, NW., Washington, DC 20420 or e-mail to nancy.kessinger@va.gov. Please refer to “OMB Control No. 2900-New (DBQs—Group 3)” in any correspondence. During the comment period, comments may be viewed online through FDMS.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles

a. Central Nervous System and Neuromusculo Diseases, Disability Benefits Questionnaire, VA Form 21-0960C-5.

b. Headaches (Including Migraine Headaches), Disability Benefits Questionnaire, VA Form 21-0960C-8.

c. Multiple Sclerosis (MS), Disability Benefits Questionnaire, VA Form 21-0960C-9.

d. Esophageal Disorders (Including GERD), Disability Benefits Questionnaire, VA Form 21-0960G-1.

e. Gallbladder and Pancreas Conditions, Disability Benefits Questionnaire, VA Form 21-0960G-2.

f. Intestinal Disorders (Other Than Surgical or Infectious) (Including Irritable Bowel Syndrome, Crohn's Disease, Ulcerative Colitis, and Diverticulitis) Disability Benefits Questionnaire, VA Form 21-0960G-3.

g. Intestines Surgical and/or Infectious Intestinal Disorders (Bowel Resection, Colostomy, Ileostomy, Bacterial and Parasitic Infections) Disability Benefits Questionnaire, VA Form 21-0960G-4.

h. Hepatitis, Cirrhosis and Other Liver Conditions, Disability Benefits Questionnaire, VA Form 21-0960G-5.

i. Peritoneal Adhesions Disability Benefits Questionnaire, VA Form 21-0960G-6.

j. Stomach and Duodenal Conditions (Not Including GERD or Esophageal Disorders) Disability Benefits Questionnaire, VA Form 21-0960G-7.

k. Rectum and Anus Disability Benefits Questionnaire, VA Form 21-0960H-2.

l. Breast Conditions and Disorders Disability Benefits Questionnaire, VA Form 21-0960K-1.

m. Gynecological Conditions Disability Benefits Questionnaire, VA Form 21-0960K-2.

n. Sleep Apnea Disability Benefits Questionnaire, VA Form 21-0960L-2.

o. Arthritis Disability Benefits Questionnaire, VA Form 21-0960M-3.

p. Osteomyelitis Disability Benefits Questionnaire, VA Form 21-0960M-11.

q. Ear Conditions (Including Vestibular and Infectious) Disability Benefits Questionnaire, VA Form 21-0960N-1.

OMB Control Number: 2900-New (DBQs—Group 3).

Type of Review: New collection.

Abstract: Data collected on VA Form 21-0960 series will be used to obtain information from claimant's treating physician that is necessary to adjudicate a claim for disability benefits.

Affected Public: Individuals or households.

Estimated Annual Burden

a. VA Form 21-0960C-5—5,000.

b. VA Form 21-0960C-8—3,750.

c. VA Form 21-0960C-9—7,500.

d. VA Form 21-0960G-1—10,000.

e. VA Form 21-0960G-2—1,250.

f. VA Form 21-0960G-3—1,250.

g. VA Form 21-0960G-4—1,250.

h. VA Form 21-0960G-5—5,000.

i. VA Form 21-0960G-6—1,250.

j. VA Form 21-0960G-7—2,500.

k. VA Form 21-0960H-2—2,500.

l. VA Form 21-0960K-1—7,500.

m. VA Form 21-0960K-2—10,000.

n. VA Form 21-0960L-2—1,250.

o. VA Form 21-0960M-3—25,000.

p. VA Form 21-0960M-11—10,000.

q. VA Form 21-0960N-1—6,250.

Estimated Average Burden per Respondent

a. VA Form 21-0960C-5—30 minutes.

b. VA Form 21-0960C-8—15 minutes.

c. VA Form 21-0960C-9—45 minutes.

d. VA Form 21-0960G-1—15 minutes.

e. VA Form 21-0960G-2—15 minutes.

f. VA Form 21-0960G-3—15 minutes.

g. VA Form 21-0960G-4—15 minutes.

h. VA Form 21-0960G-5—30 minutes.

i. VA Form 21-0960G-6—15 minutes.

j. VA Form 21-0960G-7—15 minutes.

k. VA Form 21-0960H-2—15 minutes.

l. VA Form 21-0960K-1—15 minutes.

m. VA Form 21-0960K-2—30 minutes.

n. VA Form 21-0960L-2—15 minutes.

o. VA Form 21-0960M-3—15 minutes.

p. VA Form 21-0960M-11—15 minutes.

q. VA Form 21-0960N-1—15 minutes.

Frequency of Response: On occasion.

Estimated Number of Respondents

a. VA Form 21-0960C-5—10,000.

b. VA Form 21-0960C-8—15,000.

c. VA Form 21-0960C-9—10,000.

d. VA Form 21-0960G-1—40,000.

e. VA Form 21-0960G-2—5,000.

f. VA Form 21-0960G-3—5,000.

g. VA Form 21-0960G-4—5,000.

h. VA Form 21-0960G-5—10,000.

i. VA Form 21-0960G-6—5,000.

j. VA Form 21-0960G-7—10,000.

k. VA Form 21-0960H-2—10,000.

l. VA Form 21-0960K-1—30,000.

m. VA Form 21-0960K-2—20,000.

n. VA Form 21-0960L2—5,000.

o. VA Form 21-0960M-3—100,000.

p. VA Form 21-0960N-11—40,000.

q. VA Form 21-0960N-1—25,000.

Dated: April 8, 2011.
By direction of the Secretary.
Denise McLamb,
Program Analyst, Enterprise Records Service.

[FR Doc. 2011-9156 Filed 4-14-11; 8:45 am]

BILLING CODE 8320-01-P